DEPARTMENT OF COMMERCE

International Trade Administration

[A-570-010]

Certain Crystalline Silicon Photovoltaic Products From the People's Republic of China: Final Results of Antidumping Duty Administrative Review and Final Determination of No Shipments; 2014-2016, and Certain Crystalline Silicon Photovoltaic Products From the People's Republic of China: Final Results of Antidumping Duty Administrative Review; 2017-2018; Correction

AGENCY: Enforcement and Compliance, International Trade Administration, Department of Commerce.

ACTION: Notice; correction.

SUMMARY: The Department of Commerce (Commerce) published notices in the Federal Registers of July 12, 2017 and June 14, 2019 in which it announced the final results of the 2014-2016 and 2017-2018 administrative reviews, respectively, of the antidumping duty (AD) order on certain crystalline silicon photovoltaic products (solar products) from the People's Republic of China (China). These notices contain incorrect cash deposit rates and/or dumping margins for the China-wide entity.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Correction

In the Federal Register of July 12, 2017, in FR Doc 2017-14611, on page 32172, in the second column, correct the first paragraph of the “Cash Deposit Requirements” caption to state the correct cash deposit rate for the PRC-wide entity. The correct cash deposit rate for the China-wide entity (PRC-wide entity) is 152.84 percent.

In the Federal Register of June 14, 2019, in FR Doc 2019-12608, on page 27765, in the second and third columns, correct the first paragraph of the “Analysis” caption and the first paragraph of the “Cash Deposit Requirements” caption to state the correct dumping margin and cash deposit rate, respectively, for the China-wide entity. The correct dumping margin and cash deposit rate for the China-wide entity are 165.04 percent and 152.84 percent, respectively.

Background

On July 12, 2017, and June 14, 2019, Commerce published in the Federal Register notices of the final results of the 2014-2016 and 2017-2018 administrative reviews, respectively, of the AD order on solar products from China.¹ We incorrectly identified the cash deposit rate for the China-wide entity as 165.04 percent in the notice of final results for the 2014-2016 review and incorrectly identified the dumping margin and the cash deposit rate for the China-wide entity as 151.98 percent in the notice of final results for the 2017-2018 review. The dumping margin and cash deposit rate applicable to the China-wide entity during the 2014-2016 and 2017-2018 periods of review did not change from those established in the less-than-fair value (LTFV) investigation and the AD order. In the LTFV investigation, Commerce established a 165.04 percent dumping margin for the China-wide entity which it adjusted for export subsidies and domestic subsidy pass-through to derive a cash deposit rate for the China-wide entity of 152.84 percent.² We hereby notify the public that in these notices for the final results of administrative reviews we should have identified the dumping margin for the China-wide entity as 165.04 percent and the cash deposit rate for the China-wide entity as 152.84 percent.³ We intend to notify U.S. Customs and Border Protection (CBP) of this correction.

¹ See Certain Crystalline Silicon Photovoltaic Products from the People's Republic of China: Final Results of Antidumping Duty Administrative Review and Final Determination of No Shipments; 2014-2016, 82 FR 32170 (July 12, 2017) and Certain Crystalline Silicon Photovoltaic Products from the People's Republic of China: Final Results of Antidumping Duty Administrative Review; 2017-2018; 84 FR 27764 (June 14, 2019).

² See Certain Crystalline Silicon Photovoltaic Products From the People's Republic of China: Final Determination of Sales at Less Than Fair Value, 79 FR 76970 (December 23, 2014); see also Certain Crystalline Silicon Photovoltaic Products From the People's Republic of China: Antidumping Duty Order; and Amended Final Affirmative Countervailing Duty Determination and Countervailing Duty Order, 80 FR 8592 (February 18, 2015)(Order).

³ See Order, 80 FR at 8595; see also instructions issued to CBP following publication of the Order, Message Number 5061301 (listing the China-wide entity's cash deposit rate as 152.84 percent), dated 03/02/2015, publicly available at https://aceservices.cbp.dhs.gov/adcvdweb/#.

Notification to Interested Parties

This notice is issued and published in accordance with sections 751(a) and 777(i) of the Tariff Act of 1930, as amended.

Dated: April 5, 2021.
Christian Marsh,
Acting Assistant Secretary for Enforcement and Compliance.

[FR Doc. 2021-07309 Filed 4-8-21; 8:45 am]

BILLING CODE 3510-DS-P